ENVIRONMENTAL PROTECTION AGENCY

40 CFR Part 70

[GA-T5-2000-01a; FRL-6711-2]

Clean Air Act Full Approval of Operating Permit Program; Georgia

AGENCY: Environmental Protection Agency (EPA).

ACTION: Direct final rule.

SUMMARY: EPA is taking final action to fully approve the operating permit program of the State of Georgia. Georgia's operating permit program was submitted in response to the directive in the 1990 Clean Air Act (CAA) Amendments that States develop, and submit to EPA, programs for issuing operating permits to all major stationary sources and to certain other sources within the States' jurisdiction. EPA granted interim approval to Georgia's operating permit program on November 22, 1995. Georgia revised its program to satisfy the conditions of the interim approval and this action approves those revisions.

DATES: This direct final rule is effective on August 7, 2000 without further notice unless EPA receives adverse comments in writing by July 10, 2000. If adverse comment is received, EPA will publish a timely withdrawal of this direct final rule in the Federal Register and inform the public that the rule will not take effect.

ADDRESSES: Written comments on this action should be addressed to Kim Pierce, Regional Title V Program Manager, Operating Source Section, Air & Radiation Technology Branch, EPA, 61 Forsyth Street, SW, Atlanta, Georgia 30303. Copies of the State's submittals and other supporting documentation relevant to this action are available for inspection during normal business hours at EPA, Air & Radiation Technology Branch, 61 Forsyth Street, SW, Atlanta, Georgia 30303.

FOR FURTHER INFORMATION CONTACT: Kim Pierce, EPA, Region 4, at (404) 562-9124.

SUPPLEMENTARY INFORMATION: This section provides additional information by addressing the following questions:

What is the operating permit program?

What is being addressed in this document?

What are the program changes that EPA is approving?

What is involved in this final action?

What Is the Operating Permit Program?

The CAA Amendments of 1990 required all States to develop operating permit programs that met certain Federal criteria. In implementing the operating permit programs, the States require certain sources of air pollution to obtain permits that contain all applicable requirements under the CAA. The focus of the operating permit program is to improve enforcement by issuing each source a permit that consolidates all of the applicable CAA requirements into a Federally enforceable document. By consolidating all of the applicable requirements for a facility, the source, the public, and the permitting authorities can more easily determine what CAA requirements apply and how compliance with those requirements is determined.

Sources required to obtain an operating permit under this program include: “major” sources of air pollution and certain other sources specified in the CAA or in EPA's implementing regulations. For example, all sources regulated under the acid rain program, regardless of size, must obtain operating permits. Examples of major sources include those that have the potential to emit 100 tons per year or more of volatile organic compounds, carbon monoxide, lead, sulfur dioxide, nitrogen oxides, or particulate matter (PM10); those that emit 10 tons per year of any single hazardous air pollutant (specifically listed under the CAA); or those that emit 25 tons per year or more of a combination of hazardous air pollutants (HAPs). In areas that are not meeting the National Ambient Air Quality Standards for ozone, carbon monoxide, or particulate matter, major sources are defined by the gravity of the nonattainment classification. For example, in ozone nonattainment areas classified as serious, such as the metropolitan Atlanta area in Georgia, major sources include those with the potential of emitting 50 tons per year or more of volatile organic compounds or nitrogen oxides.

What Is Being Addressed in This Document?

Where an operating permit program substantially, but not fully, met the criteria outlined in the implementing regulations codified at 40 Code of Federal Regulations (CFR) part 70, EPA granted interim approval contingent on the State revising its program to correct the deficiencies. Because Georgia's operating permit program substantially, but not fully, met the requirements of part 70, EPA granted interim approval to the program in a rulemaking published on November 22, 1995 (60 FR 57836). The interim approval notice stipulated three conditions that had to be met in order for Georgia's program to receive full approval. Georgia submitted revisions to its interimly approved operating permit program on March 10, 1997, February 11, 1998, September 30, 1999, November 15, 1999, and January 11, 2000. This document describes the changes that have been made in Georgia's operating permit program.

What Are the Program Changes That EPA Is Approving?

One condition for full approval of Georgia's operating permit program was a rule revision to require that operating permits contain terms and conditions allowing for the trading of emissions changes within the facility. These emissions trades are solely for the purpose of complying with a Federally-enforceable emissions cap in accordance with 40 CFR 70.4(b)(12)(iii). Moreover, the permittee must provide written notification to EPA at least seven (7) days in advance of any change to the permit, and the written notification must state when the change will occur and describe the changes in emissions that will result and how these increases and decreases in emissions will comply with the terms and conditions of the permit. Georgia took action in December 1997 to include these requirements in Rule 391-3-1-.03(10)(d)1.(ii) and submitted the final State-effective rule changes to EPA on February 11, 1998.

Another condition for full approval of Georgia's operating permit program was a rule revision to ensure that the permit shield provision in 40 CFR 70.6(f) would apply to any changes in emissions resulting from emissions trading within a facility solely for the purpose of complying with a Federally-enforceable emissions cap. The revised Rule 391-3-.03(10)(d)1.(ii) containing this provision was submitted to EPA on February 11, 1998.

The third, and final, condition for full approval of Georgia's operating permit program was correction of the deficient insignificant activities provisions in the State's rules. One deficiency concerned the exemption of insignificant activities from permit requirements. While the State has considerable discretion regarding the degree of monitoring, recordkeeping and reporting required for insignificant activities, these units cannot be categorically exempted from title V permitting requirements. Moreover, Georgia's rules did not make the distinction between activities which could be omitted from permit applications and those that were considered to be insignificant but were still required to be included in the application.

In response to this interim approval issue, the State revised its approach to insignificant activities by adding Rule 391-3-1-.03(10)(g), which identifies specific insignificant activities that must be included in the permit application. Moreover, rule revisions were made to eliminate the exemption from permitting requirements for insignificant activities. The final State-effective rule changes were submitted to EPA on February 11, 1998.

Georgia made additional program changes after the interim approval became effective on December 22, 1995. The State revised its title V permit application form to address the title VI requirements for stratospheric ozone and to incorporate the flexibility described in the EPA's July 10, 1995 guidance memorandum entitle “White Paper for Streamlined Development of Part 70 Permit Applications” (White Paper). The revised form was submitted to EPA on March 10, 1997 and is available for review on Georgia's Web site at www.dnr.state.ga.us/dnr/environ. The revised form incorporated the following aspects of the White Paper:

(1) The White Paper allowed industry to submit checklists, rather than emission descriptions, for insignificant activities based on size or production rate. As a result, Georgia included several different categories of insignificant activities in checklist format in section 4.10 of the permit application form. Georgia also removed the requirement for detailed information regarding air pollution control devices, since this information is requested in the preconstruction permit application.

(2) The White Paper allowed for group treatment of emissions units subject to the broadly applicable requirements that are often found in State Implementation Plans (SIPs). The State, therefore, created section 4.20 of the application form to group emissions units and activities that were subject to the following four State rules that are generic SIP requirements: Rule 391-3-1-.02(2)(b) entitled “Visible Emissions,” Rule 391-3-1-.02(2)(d) entitled “Fuel-burning Equipment,” Rule 391-3-1-.02(2)(e) entitled “Particulate Emissions from Manufacturing Process,” and Rule 391-3-1-.02(2)(n) entitled “Fugitive Dust.”

(3) The White Paper allowed for the generic treatment of short-term activities, so the State developed section 4.40 to address those activities that occur infrequently or for short durations.

(4) The White Paper identified a number of trivial activities that could be excluded from permit applications, so Georgia included a similar list in the instructions for its permit application form.

(5) The White Paper allows industry to provide descriptions, rather than estimates, for emissions not regulated at the source, unless such estimates were needed for other purposes such as calculating permit fees. As a result, the State developed sections 2.10 and 2.20 of its permit application form to only require estimates of facility-wide potential and anticipated actual emissions in tons per year. All significant facility emissions are still required to be listed by pollutant in section 7.10.

(6) The white Paper provided that where an emissions unit is subject to a specific standard, the emissions data could be reported in the units of that standard. Georgia revised its permit application form accordingly.

(7) In order to reduce the size and cost of preparing title V permit applications, the White Paper allowed for the submittal of sample calculations to illustrate the methodology used. As a result, the State revised its permit application form to require the submittal of sample calculations to support the emissions summary information contained in section 7.10

The other programmatic change made by Georgia involves the mechanism for determining the annual title V fee amount. The State's operating permit program received interim approval based on use of the “presumptive minimum” described in 40 CFR 70.9(b)(2)(i), but Georgia has been using a mechanism based on 40 CFR 70.9(b)(1) since September 1997. This mechanism involves establishing a fee schedule that results in the collection and retention of revenues sufficient to cover the costs of the operating permit program. To accomplish this, the State develops a biennial budget projection of title V program costs and adjusts the fee amount accordingly. Georgia described its revised mechanism for assessing fees in a letter to EPA dated January 11, 2000. The State submitted a fee program update on September 30, 1999 demonstrating that its operating permit program is adequately funded by operating permit fees.

What Is Involved in This Final Action?

The State of Georgia has fulfilled the conditions of the interim approval granted on November 22, 1995, so EPA is taking final action to fully approve the State's operating permit program. EPA is also taking action to approve other program changes made by the State since the interim approval was granted.

EPA is publishing this action without prior proposal because the Agency views this as a noncontroversial amendment and anticipates no adverse comments. However, in the proposed rules section of this Federal Register publication, EPA is publishing a separate document that will serve as the proposal to grant final full approval should adverse comments be filed. This action will be effective August 7, 2000 unless the Agency receives adverse comments by July 10, 2000.

If EPA receives such comments, then EPA will withdraw the final rule and inform the public that the rule will not take effect. All public comments received will then be addressed in a subsequent final rule based on the proposed rule. EPA will not institute a second comment period. Parties interested in commenting should do so at this time. If no such comments are received, the public is advised that this rule will be effective on August 7, 2000 and no further action will be taken on the proposed rule.

Administrative Requirements

A. Executive Order 12866

The Office of Management and Budget has exempted this regulatory action from Executive Order 12866, entitled “Regulatory Planning and Review.”

B. Executive Order 12988

As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

C. Executive Order 13045

Protection of Children from Environmental Health Risks and Safety Risks (62 FR 19885, April 23, 1997) applies to any rule that: (1) Is determined to be “economically significant” as defined under Executive Order 12866, and (2) concerns an environmental health or safety risk that EPA has reason to believe may have disproportionate effect on children. If the regulatory action meets both criteria, the Agency must evaluate the environmental health or safety effects of the planned rule on children, and explain why the planned regulation is preferable to other potentially effective and reasonably feasible alternatives considered by the Agency.

This rule is not subject to Executive Order 13045 because it is not an economically significant regulatory action as defined in Executive Order 12866, and it does not involve decisions intended to mitigate environmental health or safety risks.

D. Executive Order 13084

Under Executive Order 13084, Consultation and Coordination with Indian Tribal Governments, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

E. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This final rule will not have substantial direct effects on the States, on the relationship between the national government and the States, or on the distribution of power and responsibilities among the various levels of government, as specified in Executive Order 13132, because it merely approves a State rule implementing a Federal standard, and does not alter the relationship or the distribution of power and responsibilities established in the Clean Air Act. Thus, the requirements of section 6 of the Executive Order do not apply to this rule.

F. Regulatory Flexibility Act (RFA)

The Regulatory Flexibility Act generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because part 70 approvals under section 502 of the Act do not create any new requirements but simply approve requirements that the State is already imposing. Therefore, because this approval does not create any new requirements, I certify that this action will not have a significant economic impact on a substantial number of small entities.

Moreover, due to the nature of the Federal-State relationship under the Clean Air Act, preparation of a flexibility analysis would constitute Federal inquiry into the economic reasonableness of State action. The Clean Air Act forbids EPA to base its actions concerning SIPs on such grounds. Union Electric Co., v. U.S. EPA, 427 U.S. 246, 255-266 (1976); 42 U.S.C. 7410(a)(2).

G. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

H. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

I. Petitions for Judicial Review

Under section 307(b)(1) of the Clean Air Act, petitions for judicial review of this action must be filed in the United States Court of Appeals for the appropriate circuit by August 7, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

J. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

In reviewing operating permit programs, EPA's role is to approve State choices, provided that they meet the criteria of the Clean Air Act. In this context, in the absence of a prior existing requirement for the State to use VCS, SPA has no authority to disapprove an operating permit program for failure to use VCS. It would thus be inconsistent with applicable law for EPA, when it reviews an operating permit program, to use VCS in place of an operating permit program that otherwise satisfies the provisions of the Clean Air Act. Thus, the requirements of section 12(d) of NTTAA do not apply.

List of Subjects in 40 CFR Part 70

Environmental protection, Administrative practice and procedure, Air pollution control, Intergovernmental relations, Operating permits, Reporting and recordkeeping requirements.

Dated: May 15, 2000.
A. Stanley Meiburg,
Acting Regional Administrator, Region 4.

For reasons set out in the preamble, Appendix A of part 70 of title 40, chapter I, of the Code of Federal Regulations is amended as follows:

PART 70—[AMENDED]

1. The authority citation for part 70 continues to read as follows:

Authority: 42 U.S.C. 7401 et seq.

2. Appendix A to part 70 is amended by revising paragraph (b) in the entry for Georgia to read as follows:

Appendix A to Part 70—Approval Status of State and Local Operating Permits Programs

* * * * *

Georgia

(b) The Georgia Department of Natural Resources submitted program revisions on March 10, 1997, February 11, 1998, September 30, 1999, November 15, 1999, and January 11, 2000. The rule revisions contained in the February 11, 1998 submittal adequately addressed the conditions of the interim approval effective on December 22, 1995, and which would expire on June 1, 2000. The State is hereby granted final full approval effective on August 7, 2000.

[FR Doc. 00-14166 Filed 6-7-00; 8:45 am]

BILLING CODE 6560-50-M